DEPARTMENT OF THE TREASURY

Submission for OMB Review; Comment Request

August 21, 2002.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

Dates: Written comments should be received on or before September 27, 2002, to be assured of consideration.

Internal Revenue Service (IRS)

OMB Number: 1545-1467.

Form Number: IRS Forms 9779, 9779(SP), 9783, 9783(SP), 9787, 9787(SP), 9789, 9789(SP), and 12252.

Type of Review: Extension.

Title: Electronic Federal Tax Payment System (EFTPS).

Description: Enrollment is vital to the implementation of the Electronic Federal Tax Payment System (EFTPS). EFTPS is an electronic remittance processing system that the Service will use to accept electronically transmitted federal tax payments. This system is a necessary outgrowth of advanced information and communication technologies.

Respondents: Business or other for-profit, Individuals or households, State, Local or Tribal Government.

Estimated Number of Respondents: 4,471,000.

Estimated Burden Hours Per Respondent:

Form | Response time (in minutes)
Form 9779 (paper) | 20
Form 9779 (on line) | 20
Form 9779(SP) | 20
Form 9783 (paper) | 20
Form 9783 (on line) | 20
Form 9783 (SP) | 20
Form 9787 | 20
Form 9787(SP) | 20
Form 9789 | 20
Form 9789(SP) | 20
Form 12252 | 10

Frequency of Response: On occasion, Quarterly.

Estimated Total Reporting Burden: 1,490,019 hours.

Clearance Officer: Glenn Kirkland, Internal Revenue Service, Room 6411-03, 1111 Constitution Avenue, NW., Washington, DC 20224. (202) 622-3428.

OMB Reviewer: Joseph F. Lackey, Jr., Office of Management and Budget, Room 10235, New Executive Office Building, Washington, DC 20503. (202) 395-7316.

Lois K. Holland,
Departmental Reports Management Officer.

[FR Doc. 02-21836 Filed 8-27-02; 8:45 am]

BILLING CODE 4830-01-P